DEPARTMENT OF DEFENSE

Department of the Navy

Notice of Availability for the Draft Programmatic Environmental Assessment for the Development and Operation of Small-Scale Wind Energy Projects at United States Marine Corps Facilities Throughout the United States

AGENCY: Department of the Navy, DoD.

ACTION: Notice.

SUMMARY: Pursuant to Section (102)(2)(c) of the National Environmental Policy Act of 1969 (NEPA) (42 United States Code 4321), as implemented by the Council on Environmental Quality regulations for implementing the procedural provisions of NEPA (40 Code of Federal Regulations [CFR] Parts 1500-1508), and Marine Corps NEPA directives (Marine Corps Order P5090.2A), the Department of the Navy announces the availability of, and invites public comments on the Draft Programmatic Environmental Assessment (Draft PEA) for the development and operation of small-scale wind energy projects at United States Marine Corps (USMC) facilities throughout the Continental United States (CONUS). A PEA evaluates a major action on a broad, programmatic basis. Thus, site-specific NEPA analysis may be tiered off this document as appropriate.

Dates and Addresses: The public comment period begins upon publication of a Notice of Availability (NOA) for the Draft PEA in the Federal Register. The comment period will last for 30 days thereafter.

The Draft PEA is available for electronic viewing at http://marines.mil/unit/marforres/MFRHQ/FACILITIES/FACILITIES.aspx, or by sending a request to Alain Flexer, USMC Marine Forces Reserves (MARFORRES), by telephone 504-678-8489, by fax 504-678-6823, by e-mail to alain.flexer@usmc.mil or by writing to: MARFORRES, Facilities, Attn: Alain Flexer, 4400 Dauphine Street, New Orleans, Louisiana 70146-5400.

Comments: All comments, written or submitted via the internet, are treated equally, become part of the public record on the Draft PEA, and will be considered in the Final PEA. During the 30-day comment period, all written comments should be mailed to MARFORRES, Facilities, Attn: Alain Flexer, 4400 Dauphine Street, New Orleans, LA 70146-5400. Please submit all comments by the end of the 30-day comment period.

FOR FURTHER INFORMATION CONTACT: MARFORRES: Attn: Alain Flexer, telephone 504-678-8489 or by e-mail alain.flexer@usmc.mil.

SUPPLEMENTARY INFORMATION: MARFORRES (Energy Office) has completed a Draft PEA for the development and operation of small-scale wind energy projects at USMC CONUS facilities. The USMC has previously identified the subset of facilities at which wind is the most readily available and economically feasible renewable energy source and which may be included in their wind energy program, therefore, this Draft PEA does not consider other forms of renewable energy.

The purpose of the proposed action is to reduce dependency on fossil fuels and increase energy security and efficiency through development of small-scale wind energy projects at USMC CONUS facilities. The proposed action would enable MARFORRES to achieve specific goals regarding energy production and usage set by Executive Orders, legislative acts, and Federal agencies.

The Draft PEA evaluates the potential environmental impacts of constructing and operating small-scale wind energy facilities, with the number and sizes of turbines for each facility ranging from one to four and from 0.1 MW to 2.5 MW respectively. Under the No Action Alternative, the USMC would not pursue the development and operation of small-scale wind energy projects at USMC CONUS facilities.

Environmental resources addressed in the Draft PEA include land use; noise; geological resources; water resources; biological resources; cultural resources; visual resources; socioeconomics; air quality; utilities; airspace; health and safety; hazardous materials; and transportation. The Draft PEA also analyzes cumulative impacts from other past, present, and reasonably foreseeable future actions.

Schedule: NOA of the Draft PEA will be published in the Federal Register. This notice initiates the 30-day public comment period for the Draft PEA. If the Draft PEA determines a more thorough analysis is necessary, then the USMC will prepare an Environmental Impact Statement (EIS). If additional analysis is not necessary, the USMC will issue a Finding of No Significant Impact (FONSI). The USMC intends to issue the Final PEA no later than February 2011, at which time a NOA of the FONSI or Notice of Intent (NOI) to prepare an EIS will be published.

Dated: January 25, 2011.
D.J. Werner,
Lieutenant Commander, Judge Advocate General's Corps, U.S. Navy, Federal Register Liaison Officer.

[FR Doc. 2011-2160 Filed 1-31-11; 8:45 am]

BILLING CODE 3810-FF-P